NATIONAL AERONAUTICS AND SPACE ADMINISTRATION

[Notice 04-095]

NASA Advisory Council, Biological and Physical Research Advisory Committee Audio Teleconference

AGENCY: National Aeronautics and Space Administration.

ACTION: Notice of audio teleconference.

SUMMARY: In accordance with the Federal Advisory Committee Act, Public Law 92-463, as amended, the National Aeronautics and Space Administration announces a meeting of the NASA Advisory Council, Biological and Physical Research Advisory Committee.

DATES: Friday, August 13, 2004, from 12 noon until 2 p.m.

ADDRESSES: NASA Headquarters, 300 E Street, SW., Room 2X40, Washington, DC 20546.

FOR FURTHER INFORMATION CONTACT: Dr. Louis Ostrach, Code UF, National Aeronautics and Space Administration, Washington, DC 20546, 202/358-0870.

SUPPLEMENTARY INFORMATION: The meeting will be open to the public up to the seating capacity of the meeting room. The agenda for the meeting is as follows:

—Performance Measures

Attendees will be requested to sign a register and to comply with NASA security requirements, including the presentation of a valid picture ID, before receiving an access badge. Foreign nationals attending this meeting will be required to provide the following information: full name; gender; date/place of birth; citizenship; visa/green card information (number, type, expiration date); employer/affiliation information (name of institution, address, county, phone); and title/position of attendee. To expedite admittance, attendees can provide identifying information in advance by contacting Dr. Louis Ostrach via email at louis.h.ostrach@nasa.gov or by telephone at (202) 358-0870. Persons with disabilities who require assistance should indicate this. It is imperative that the teleconference be held on this date to accommodate the scheduling priorities of the key participants.

R. Andrew Falcon,
Advisory Committee Management Officer, National Aeronautics and Space Administration.

[FR Doc. 04-17338 Filed 7-29-04; 8:45 am]

BILLING CODE 7510-01-P